DEPARTMENT OF ENERGY

Federal Energy Regulatory Commission

[Docket No. CP01-415-000]

East Tennessee Natural Gas Company; Notice of Availability of the Draft Environmental Impact Statement for the Proposed Patriot Pipeline Project

April 26, 2002.

The staff of the Federal Energy Regulatory Commission (FERC or Commission) has prepared a Draft Environmental Impact Statement (DEIS) on the natural gas pipeline facilities proposed by East Tennessee Natural Gas Company (East Tennessee) in the above-referenced docket.

The DEIS was prepared to satisfy the requirements of the National Environmental Policy Act (NEPA) and the Commission's implementing regulations under Title 18, Code of Federal Regulations (CFR), Part 380. The staff concludes that approval of the proposed project with the appropriate mitigating measures as recommended, would have limited adverse environmental impact. The DEIS also evaluates alternatives to the proposed Project, and requests comments on them.

The DEIS addresses the potential environmental effects of the construction and operation of the Patriot Project which consists of two components, the Mainline Expansion and the Patriot Extension.

Mainline Expansion

• Construct approximately 87.3 miles of pipeline loops, ranging in size from 20 to 24 inches in diameter;

• Uprate approximately 77.2 miles of pipeline;

• Abandon and re-lay approximately 22.5 miles of pipeline;

• Construct five new compressor stations; and

• Modify 10 existing compressor stations;

Patriot Extension

• Construct approximately 99.7 miles of new pipeline (24- and 16-inch-diameter);

• Three new meter stations; and

• Associated mainline valves and appurtenant facilities in Virginia and North Carolina.

The staff has also evaluated 12 major route alternatives. Nine of these were removed from further consideration. The remaining three major route alternatives appear to have environmental benefits relative to the proposed route. We ¹ are requesting public comment on these three major route alternatives. We analyzed seven route variations; five were removed from further consideration, and two are recommended over the proposed route. We examined four alternative compressor station sites; two were removed from consideration after our analyses and two are recommended over the proposed sites. We evaluated two alternative interconnect sites for the proposed Transco interconnect, both of which were removed from further consideration.

¹ “We,”“us,” and “our” refer to the environmental staff of the Office of Energy Projects, part of the Commission staff.

Comment Procedures and Public Meetings

Any person wishing to comment on the DEIS may do so. To ensure consideration prior to a Commission decision on the proposal, it is important that we receive your comments before the date specified below. Please carefully follow these instructions to ensure that your comments are received in time and properly recorded:

• Send one original and two copies of your comments to: Ms. Magalie R. Salas, Secretary, Federal Energy Regulatory Commission, 888 First St., N.E., Room 1A, Washington, DC 20426.

• Label one copy of the comments for the attention of the Gas Branch 2, PJ-11.2

• Reference Docket No. CP01-415-000

• Mail your comments so that they will be received in Washington, DC on or before June 17, 2002.

Please note that we are continuing to experience delays in mail deliveries from the U.S. Postal Service. As a result, we will include all comments that we receive within a reasonable time frame in our environmental analysis of this project. However, the Commission encourages electronic filing of any comments or interventions or protests to this proceeding. Comments may also be filed electronically via the Internet in lieu of paper. See 18 CFR 385.2001(a)(1)(iii) and the instructions on the Commission's Internet web site (http://www.ferc.gov) under the “e-Filing” link and the link to the User's Guide. Before you can file comments, you will need to create an account, which can be created by clicking on “Login to File” and the “New User Account.”

In addition to accepting written comments, the Commission will hold five public meetings at the times and locations shown below to receive comments on this DEIS. Interested groups and individuals are encouraged to attend the meetings and comment on the environmental impacts described in the DEIS.

Date and time | Location | Phone
Tuesday, May 21, 2002 7 p.m | Patrick Henry Community College, Theatre, 645 Patriot Avenue, Martinsville, VA 24115 | (276) 638-8777
Wednesday, May 22, 2002 7 p.m | Patrick County Community Center, Rotary Field Memorial, Building Gymnasium, 420 Woodland Drive, Stuart, VA 24171 | (276) 694-3917
Thursday, May 23, 2002 7 p.m | Veterans of Foreign Wars, Grover King Post 1115, 701 West Stuart Drive, Hillsville, VA 24343 | (276) 728-2911
Wednesday, May 29, 2002 7 p.m | Mountain Arts Community Center Theater, 809 Kentucky Avenue | (423) 886-1959
Thursday, May 30, 2002 7 p.m | Slater Community Center Auditorium, 325 McDowell Street, Bristol, TN 37620 | (423) 764-4023

After comments have been reviewed, any significant new issues will be investigated. When the DEIS has been modified as appropriate, the staff will publish and distribute a Final Environmental Impact Statement (FEIS). The FEIS will contain the staff's responses to timely comments filed on the DEIS.

Comments will be considered by the Commission but will not serve to make the commentor a party to the proceeding. Any person seeking to become a party to the proceeding must file a Motion to Intervene pursuant to Rule 214 of the Commission's Rules of Practice and Procedures (see 18 CFR 385.214).

Anyone may intervene in this proceeding based on this DEIS. You must file your request to intervene as specified above.² You do not need intervenor status to have your comments considered.

² Interventions also may be filed electronically via the Internet in lieu of paper. See the previous discussion on filing comments electronically.

All intervenors, agencies, elected officials, local governments, special interest groups, Indian tribes, affected landowners, local libraries, media, and anyone providing written comments on the DEIS will receive a copy of the FEIS. If you do not wish to comment on the DEIS but wish to receive a copy of the FEIS, you must write to the Secretary of the Commission, indicating this request.

The DEIS has been placed in the public files of the FERC and is available for distribution and public inspection at: Federal Energy Regulatory Commission, Public Reference and Files Maintenance Branch, 888 First Street, NE., Room 2A, Washington, DC 20426, (202) 208-1371.

A limited number of copies are available from the Public Reference and Files Maintenance Branch identified above. In addition, copies of the DEIS have been mailed to Federal, state, and local government agencies; elected officials, environmental and public interest groups; affected landowners who requested a copy of the DEIS; Native American tribes that might attach religious and cultural significance to historic properties in the area of potential effect; local libraries and newspapers; and the Commission's list of parties to this proceeding. Members of the public who signed petitions but did not request a copy of the DEIS were sent the Executive Summary. Additional information about the proposed project is available from the Commission's Office of External Affairs, at (202) 208-1088 or on the FERC Internet web site (www.ferc.gov), using the “RIMS” link to information in this docket number. Click on the “RIMS” link, select “Docket #” from the RIMS menu, and follow the instructions. For assistance with access to RIMS, the RIMS help line can be reached at (202) 208-2222.

Similarly, the “CIPS” link on the FERC Internet web site provides access to the texts of formal documents issued by the Commission with regard to this docket, such as orders, notices, and rulemakings. From the FERC Internet web site, click on the “CIPS” link, select “Docket #” from the CIPS menu, and follow the instructions. For assistance with access to CIPS, the CIPS help line can be reached at (202) 208-2222.

Magalie R. Salas,
Secretary.

[FR Doc. 02-10857 Filed 5-1-02; 8:45 am]

BILLING CODE 6717-01-P